FEDERAL MINE SAFETY AND HEALTH REVIEW COMMISSION

Sunshine Act Meeting Notice

October 30, 2009.

Time and Date: 10 a.m., Thursday, November 12, 2009.

Place: The Richard V. Backley Hearing Room, 9th Floor, 601 New Jersey Avenue, NW., Washington, DC.

Status: Open.

Matters To Be Considered: The Commission will consider and act upon the following in open session: Secretary of Labor v. Coal River Mining, LLC, Docket No. WEVA 2006-125-R, et al. (Issues include whether the Administrative Law Judge erred in finding that a violation of 30 CFR 75.340(a) was not attributable to the operator's unwarrantable failure, and whether the Judge erred in reducing the penalties proposed by the Secretary of Labor with respect to that citation and three orders.)

Any person attending this meeting who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll-free.

Jean H. Ellen,
Chief Docket Clerk.

[FR Doc. E9-26865 Filed 11-3-09; 4:15 pm]

BILLING CODE P